DEPARTMENT OF TRANSPORTATION

Federal Railroad Administration

[Docket Number FRA-2008-0098]

Petition for Waiver of Compliance

In accordance with Part 211 of Title 49 Code of Federal Regulations (CFR), this document provides the public notice that by a document dated July 5, 2013, Iowa Interstate Railroad (IAIS) has petitioned the Federal Railroad Administration (FRA) for a waiver of compliance from certain provisions of the Federal railroad safety regulations contained at 49 CFR Part 223, Safety Glazing Standards—Locomotives, Passenger Cars and Cabooses. FRA assigned the petition Docket Number FRA-2008-0098.

IAIS, a Class III railroad, has requested an extension, with two modifications, of a previously granted waiver of compliance from certain provisions of the safety glazing standards as prescribed by 49 CFR 223.15, Requirements for existing passenger cars, for 14 open-window coach cars used in tourist and excursion service. Specifically, the car numbers are: RRDX 804, 806, 810, 814, 816, 819, 820, 822, 826, 831, 834, 836, 837, and 838. These cars were built by the Canadian Car and Foundry Company in 1953 for the Canadian Pacific Railway, and were used in Montreal, QC, in commuter service until 2005. The cars were purchased by the parent company of IAIS, Railroad Development Corporation, in autumn 2006 for excursion service on an infrequent basis. The cars are locomotive-hauled and operate over a mixture of urban and rural areas at speeds up to 30 mph.

The glazing in these coaches is polycarbonate plastic and meets the requirement for Canadian passenger equipment glazing, but may not meet the requirements of 49 CFR Part 223. Since the cars were purchased and delivered to IAIS, there have been no acts of vandalism against the glazing. The primary use of the cars is fundraising for local volunteer fire departments along the IAIS line.

The railroad has requested two modifications to the conditions of the original waiver. First, remove the limitation that the cars only be operated a maximum of 10 times a year to provide the opportunity to improve the use of the equipment. Second, increase the speed restriction from 30 mph to 40 mph to match the timetable speed of other IAIS trains. The other conditions set by the original waiver will remain in effect.

A copy of the petition, as well as any written communications concerning the petition, is available for review online at www.regulations.gov and in person at the U.S. Department of Transportation's (DOT) Docket Operations Facility, 1200 New Jersey Avenue, SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by September 23, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-19333 Filed 8-8-13; 8:45 am]

BILLING CODE 4910-06-P